DEPARTMENT OF JUSTICE

Notice of Lodging of Proposed Amendment to Consent Decree Under the Clean Air Act

On January 31, 2019, the Department of Justice lodged a proposed amendment to the Consent Decree lodged on May 30, 2017, with the United States District Court for the Northern District of Texas, Abilene Division, in the lawsuit entitled United States v. Alon USA, LP, Case No. 1:17-cv-00087.

The proposed amendment alters the previously lodged Decree, which resolves U.S. claims under the Clean Air Act (CAA), against Alon USA, LP, concerning its petroleum refinery located in Big Spring, Texas. The amendment would: Adjust dates for completion of SO2 and NOX control devices in order to address issues that included technical and feasibility considerations related to those controls raised by Alon; account for transfer of ownership of identified tanks and loading racks related to the Big Spring refinery; account for changes in anticipated turnaround schedule for the refinery; and identify elements of the Decree the performance of which is either restitution or required in order to come into compliance with the law.

The publication of this notice opens a period for public comment on the proposed amendment. Comments should be addressed to the Assistant Attorney General, Environment and Natural Resources Division, and should refer to United States v. Alon USA, LP, D.J. Ref. No. 90-5-2-1-09157. All comments must be received no later than thirty (30) days after the publication date of this notice. Comments may be submitted either by email or by mail:

To submit comments: | Send them to:
By email | pubcomment-ees.enrd@usdoj.gov.
By mail | Assistant Attorney General, U.S. DOJ-ENRD P.O. Box 7611, Washington, DC 20044-7611.

During the public comment period, the proposed amendment to the Consent Decree may be examined and downloaded at this Justice Department website: http://www.usdoj.gov/enrd/Consent_Decrees.html. We will provide a paper copy of the proposed amendment upon written request and payment of reproduction costs. Please mail your request and payment to: Consent Decree Library, U.S. DOJ-ENRD, P.O. Box 7611, Washington, DC 20044-7611.

Please enclose a check or money order for $3.25 (25 cents per page reproduction cost) payable to the United States Treasury.

Thomas Carroll,
Assistant Section Chief, Environmental Enforcement Section, Environment and Natural Resources Division.

[FR Doc. 2019-01216 Filed 2-5-19; 8:45 am]

BILLING CODE 4410-15-P